NATIONAL SCIENCE FOUNDATION

Notice of Permit Modification Received Under the Antarctic Conservation Act of 1978

AGENCY: National Science Foundation.

ACTION: Notice of Permit Modification Request Received under the Antarctic Conservation Act of 1978.

SUMMARY: The National Science Foundation (NSF) is required to publish a notice of requests to modify permits issued to conduct activities regulated under the Antarctic Conservation Act of 1978,, Public Law 95-541. NSF has published regulations under the Antarctic Conservation Act at Title 45 Part 670 of the Code of Federal Regulations. This is the required notice of a requested permit modification.

DATES: Interested parties are invited to submit written data, comments, or views with respect to this permit application by September 21, 2012. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (2011-002) to David Ainley on May 28, 2010. The issued permit allows the applicant to enter Beaufort Island ASPA 105, Cape Royds ASPA 121, and Cape Crozier ASPA 124 to band 1800 Adelie fledglings, implant PIT tags on 250 chick and 300 adult Adelies, and, apply TDR/satellite tags, weigh and blood sample 55 Adelie adults, affix, weight, then later remove “fish tag”, weight and release, and mark nests as part of a study to determine the effect of age, experience and physiology on individual foraging efficiency, breeding success and survival, and develop a comprehensive model for the Ross-Beaufort island metapopulations incorporating all the factors investigated. A recent modification to this permit, dated August 1, 2012, permitted the applicant to: (1) Increase the number of adults from 55 to 85 for attaching satellite tags at Cape Crozier (ASPA 124). The additional 30 adults will have SPLASH tags (Wildlife Computers) attached. The SPLASH tags record depth, light, and temperature every second and report positions to the ARGOS satellite a few times per day.

(2) At Cape Royds (ASPA 121) up to 30 Adelies will have their body mass recorded, bill and flipper dimensions taken, 3-5 feathers removed to confirm gender of the penguin, and have GPS/TDR tags attached and later removed. The information gained from the tags will be used to assess the change in foraging behavior upon the arrival of whales in the penguin's foraging area within the leads of the McMurdo Sound fast ice as it breaks up. The density and horizontal/depth distribution of prey will be assessed using deployed ROV.

Now the applicant proposes a modification to his permit to deploy an iRobot sea glider that will assess the prey field offshore of Cape Crozier at the same time the splash tags are deployed on the penguin to assess their foraging behavior and location. In part the data from the satellite tags will help to steer the glider to sample in and out of foraging “hotspots”. The data will demonstrate the factors that affect individual variation in foraging capabilities.

Location: ASPA 121—Cape Royds, and ASPA 124—Cape Crozier, Ross Island, and ASPA 105—Beaufort Island, Ross Sea.

Dates: September 1, 2012 to August 31, 2015.

Nadene G. Kennedy,
Permit Officer, Office of Polar Programs.

[FR Doc. 2012-20645 Filed 8-21-12; 8:45 am]

BILLING CODE 7555-01-P